DEPARTMENT OF ENERGY

Federal Energy Regulatory Commission

Combined Notice of Filings #1

Take notice that the Commission received the following electric rate filings:

Docket Numbers: ER14-2259-002; ER11-4026-004; ER13-1734-001.

Applicants: Desert View Power LLC, Eel River Power LLC, Plainfield Renewable Energy, LLC.

Description: Notice of Change in Status of the Greenleaf MBR Sellers.

Filed Date: 8/24/15.

Accession Number: 20150824-5317.

Comments Due: 5 p.m. ET 9/14/15.

Docket Numbers: ER15-2380-000.

Applicants: Willey Battery Utility, LLC.

Description: Supplement to August 5, 2015 Willey Battery Utility, LLC tariff filing.

Filed Date: 8/24/15.

Accession Number: 20150824-5207.

Comments Due: 5 p.m. ET 9/14/15.

Docket Numbers: ER15-2515-000.

Applicants: Florida Power & Light Company.

Description: § 205(d) Rate Filing: FPL Second Revised Rate Schedule No. 104-Interface Allocation Agreement to be effective 10/23/2015.

Filed Date: 8/24/15.

Accession Number: 20150824-5250.

Comments Due: 5 p.m. ET 9/14/15.

Docket Numbers: ER15-2516-000.

Applicants: Florida Power & Light Company.

Description: § 205(d) Rate Filing: FPL Second Revised Rate Schedule No. 108-JOP Allocation Agreement with JEA to be effective 10/23/2015.

Filed Date: 8/24/15.

Accession Number: 20150824-5253.

Comments Due: 5 p.m. ET 9/14/15.

Docket Numbers: ER15-2517-000.

Applicants: Southern California Edison Company.

Description: § 205(d) Rate Filing: Amended GIA and DSA Longboat Solar to be effective 8/26/2015.

Filed Date: 8/25/15.

Accession Number: 20150825-5001.

Comments Due: 5 p.m. ET 9/15/15.

Docket Numbers: ER15-2518-000.

Applicants: PJM Interconnection, L.L.C., American Transmission Systems, Incorporated.

Description: § 205(d) Rate Filing: ATSI submits Interconnection Agreement No. 4240 between ATSI and AEP to be effective 10/24/2015.

Filed Date: 8/25/15.

Accession Number: 20150825-5028.

Comments Due: 5 p.m. ET 9/15/15.

Docket Numbers: ER15-2519-000.

Applicants: Southwest Power Pool, Inc.

Description: § 205(d) Rate Filing: 1977R6 Nemaha-Marshall Electric Cooperative NITSA and NOA to be effective 8/1/2015.

Filed Date: 8/25/15.

Accession Number: 20150825-5066.

Comments Due: 5 p.m. ET 9/15/15.

Docket Numbers: ER15-2520-000.

Applicants: Southwest Power Pool, Inc.

Description: § 205(d) Rate Filing: 2041R4 Kansas City Board of Public Utilities PTP Agreement to be effective 8/1/2015.

Filed Date: 8/25/15.

Accession Number: 20150825-5076.

Comments Due: 5 p.m. ET 9/15/15.

Docket Numbers: ER15-2521-000.

Applicants: Southwest Power Pool, Inc.

Description: § 205(d) Rate Filing: 2881R2 City of Chanute, KS NITSA NOA to be effective 8/1/2015.

Filed Date: 8/25/15.

Accession Number: 20150825-5078.

Comments Due: 5 p.m. ET 9/15/15.

Take notice that the Commission received the following electric securities filings:

Docket Numbers: ES15-58-000.

Applicants: Entergy Arkansas, Inc.

Description: Application of Entergy Arkansas, Inc., for FPA Section 204 authorization.

Filed Date: 8/24/15.

Accession Number: 20150824-5322.

Comments Due: 5 p.m. ET 9/14/15.

Docket Numbers: ES15-59-000.

Applicants: Entergy Louisiana Power, LLC.

Description: Application of Entergy Louisiana Power, LLC, for FPA Section 204 authorization.

Filed Date: 8/24/15.

Accession Number: 20150824-5323.

Comments Due: 5 p.m. ET 9/14/15.

Docket Numbers: ES15-60-000; ES15-61-000; ES15-62-000; ES15-63-000; ES15-64-000.

Applicants: Entergy Gulf States Louisiana, L.L.C., Entergy Louisiana, LLC, Entergy Mississippi, Inc., Entergy New Orleans, Inc., Entergy Texas, Inc., System Energy Resources, Inc.

Description: Application of Entergy Gulf States Louisiana, L.L.C., et. al., for FPA Section 204 Authorization.

Filed Date: 8/24/15.

Accession Number: 20150824-5325.

Comments Due: 5 p.m. ET 9/14/15.

Take notice that the Commission received the following electric reliability filings:

Docket Numbers: RR15-16-000.

Applicants: North American Electric Reliability Corp.

Description: Request of North American Electric Reliability Corporation for Acceptance of its 2016 Business Plan and Budget and the 2016 Business Plans and Budgets of Regional Entities and for Approval of Proposed Assessments to Fund Budgets under RR15-16.

Filed Date: 8/24/15.

Accession Number: 20150824-5316.

Comments Due: 5 p.m. ET 9/14/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 25, 2015.
Nathaniel J. Davis, Sr.,
Deputy Secretary.

[FR Doc. 2015-21440 Filed 8-28-15; 8:45 am]

BILLING CODE 6717-01-P